DEPARTMENT OF TRANSPORTATION

Office of the Secretary

Aviation Proceedings, Agreements Filed During the Week Ending September 13, 2002

The following Agreements were filed with the Department of Transportation under the provisions of 49 U.S.C. 412 and 414. Answers may be filed within 21 days after the filing of the application.

Docket Number: OST-2002-13327.

Date Filed: September 10, 2002.

Parties: Members of the International Air Transport Association.

Subject:

PTC1 0221 dated August 12, 2002 (Mail Vote 228),

TC1 Areawide Resolutions r1-r4,

PTC1 0228 dated September 6, 2002 adopting Mail Vote 228 and amendment,

PTC1 0223 dated August 12, 2002 (Mail Vote 230),

TC1 Longhaul (except between USA and Chile, Panama), Resolutions r5-r42,

PTC1 0230 dated September 6, 2002 adopting Mail Vote 230 and amendment

PTC1 0224 dated August 12, 2002 (Mail Vote 231),

TC1 Longhaul between USA and Chile, Panama, Resolutions r43-r57,

PTC1 0231 dated September 6, 2002 adopting Mail Vote 231,

Minutes—PTC1 0233 dated September 6, 2002,

Tables—PTC1 Fares 0072 dated September 10, 2002,

Intended effective date: January 1, 2003.

Docket Number: OST-2002-13331.

Date Filed: September 10, 2002.

Parties: Members of the International Air Transport Association.

Subject:

PTC1 0222 dated August 12, 2002 (Mail Vote 229),

TC1 Caribbean Resolutions r1-r13,

PTC1 0229 dated September 6, adopting Mail Vote 229 and amendment,

PTC1 0225 dated August 12, 2002 (Mail Vote 232),

Within South America Resolutions r14-r25,

PTC1 0232 dated September 6, adopting Mail Vote 232 and amendment,

Minutes—PTC1 0233 dated September 6, 2002 filed with TC1 Areawide and TC1 Longhaul agreements,

Tables—PTC1 Fares 0071 and 0073 both dated September 10, 2002.

Andrea M. Jenkins,
Federal Register Liaison.

[FR Doc. 02-23922 Filed 9-19-02; 8:45 am]

BILLING CODE 4910-62-P